DEPARTMENT OF THE INTERIOR

Bureau of Land Management

[WY-100-06-1610-DJ]

Call for Nominations for the Pinedale Anticline Working Group

AGENCY: Bureau of Land Management, Interior.

ACTION: Call for nominations for membership to the Pinedale Anticline Working Group as part of the Adaptive Environmental Management program for the Pinedale Anticline Project Area in Southwestern Wyoming

DATES: All nominations should be postmarked by 45 days from date of publication in the Federal Register. Final appointments will be made by the Secretary of the Interior.

ADDRESSES: Nominations should be sent to Matt Anderson, Pinedale Anticline Working Group and Task Groups Coordinator, Bureau of Land Management, Pinedale Field Office, 432 East Mill Street, P.O. Box 768, Pinedale, Wyoming 82941.

SUMMARY: On August 13, 2004, the Secretary of the Interior renewed the Charter for the Pinedale Anticline Working Group and Task Groups (PAWG). Current members of the PAWG are coming up on the end of their 2-year appointment and we are now initiating the process to select seven of the nine memberships of the PAWG. Several interest groups, governmental agencies, and local interests will be given the opportunity to be represented on the PAWG, including previous PAWG members. Individuals or groups interested in becoming a member of the PAWG should submit the specified information within 45 days of this Notice.

FOR FURTHER INFORMATION CONTACT: Matt Anderson, PAWG Coordinator, BLM, Pinedale Field Office, P.O. Box 768, Pinedale, Wyoming, 82941, telephone (307) 367-5328.

SUPPLEMENTARY INFORMATION: The Federal Advisory Committee Act (5 U.S.C. Appendix 1) requires establishment of a system governing advisory committees in the Executive Branch of the Federal Government and specific policies, procedures, and responsibilities for committee creation, management and termination.

The Federal Land Policy, and Management Act of 1976 (43 U.S.C. 1701 et seq.) as amended by the Public Rangelands Improvement Act of 1978 (43 U.S.C. 1901 et seq.) requires establishment of advisory councils representative of major citizen interests concerned with resource management planning or the management of public lands.

Section 2 of the Reorganization Plan No. 3 of 1950 (5 U.S.C. Appendix, as amended; 64 Stat. 1262), authorizes the Secretary of the Interior to make provisions deemed appropriate authorizing the performance by any other officer, or by any agency or employee or Department of the Interior of a Departmental function. The establishment of advisory committees is deemed an appropriate action.

On August 13, 2004, the Secretary of the Interior renewed the Charter for the Pinedale Anticline Working Group and Task Groups (PAWG). In May 2004, nine members representing interest groups, governmental agencies, and local interests were appointed to the PAWG to serve a 2-year term. One member representing the public-at-large and one member representing Sublette County resigned. Recommendations for those two positions have been made and forwarded to the Secretary of the Interior's office for selection. Nominations are being taken for the other seven positions. Members will be selected to represent the following: Public-at-large, State of Wyoming, ranching community, land owners, environmental community, Town of Pinedale, and oil and gas operators. The Charter established several membership selection criteria and operational procedures that were developed once the Working Group became active. These are listed as follows:

(1) The PAWG is composed of 9 members who reside in the State of Wyoming. The PAWG members will be appointed by and serve at the pleasure of the Secretary of the Interior.

(2) Members to be selected to serve on the PAWG are as follows:

—A representative from the State of Wyoming, Office of the Governor

—A representative from the Town of Pinedale

—A representative from the oil/gas operators active in the Pinedale Anticline area

—A representative from statewide or local environmental groups

—A representative from the landowners within or bordering the Pinedale Anticline area

—A representative of livestock operators operating within or bordering the Pinedale Anticline area

—One of two members from the public-at-large

(A representative from the Sublette County government and one member from the public-at-large have been nominated, but not yet appointed)

(3) All members should have demonstrated an ability to analyze and interpret data and information, evaluate proposals, identify problems, and promote the use of collaborative management techniques (such as, long-term planning, management across jurisdictional boundaries, data sharing, information exchange, and partnerships).

(4) The service of the PAWG members shall be as follows:

(a) PAWG members will be appointed to 2-year terms, subject to removal by the Secretary of the Interior. At the discretion of the Secretary of the Interior, members may be reappointed to additional terms.

(b) The Chairperson of the PAWG will be selected by the PAWG at its first meeting.

(c) The term of the Chairperson will not exceed 2 years.

Individuals, or representatives of groups, who wish to become members of the Pinedale Anticline Working Group should complete and submit the following information to this office by May 22, 2006:

A. Representative Group to be considered for:

B. Nominee's Full Name:

C. Business Address:

D. Business Phone:

E. Home Address:

F. Home Phone:

G. Occupation/Title:

H. Qualifications (education including colleges, degrees, major field of study and/or training):

I. Career Highlights (significant related experience, civic and professional activities, elected offices, prior advisory committee experience, or career achievements related to the interest to be represented):

J. Experience in collaborative management techniques, such as long term planning, management across jurisdictional boundaries, data sharing, information exchange and partnerships:

K. Experience in data analysis and interpretation, problem identification and evaluation of proposals:

L. Knowledge of issues involving oil and gas development:

M. Indicate Specific Area of Interest to be Represented from the following:

1. A representative from the State of Wyoming, Office of the Governor,

2. A representative from the Town of Pinedale,

3. A representative from the oil/gas operators active in the Pinedale, Anticline area,

4. A representative from statewide or local environmental groups,

5. A representative from the landowners within or bordering the Pinedale Anticline area,

6. A representative of livestock operators operating within or bordering the Pinedale Anticline area, or

7. A representative from the public-at-large.

N. List any leases, licenses, permits, contracts or claims that you hold which involve lands or resources administered by the BLM:

O. Attach two or three Letters of Reference from interests or organization to be represented:

P. Nominated by: Include Nominator's name, address and telephone number(s):

Q. Date of nomination:

Groups should nominate more than one person and indicate their preferred order of appointment selection.

Donald A. Simpson,
Acting State Director.

[FR Doc. E6-5043 Filed 4-5-06; 8:45 am]

BILLING CODE 4310-22-P